DEPARTMENT OF JUSTICE

Antitrust Division

Notice Pursuant to the National Cooperative Research and Production Act of 1993—Information Warfare Research Project Consortium

Notice is hereby given that, on July 12, 2024, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 3 Reasons Consulting LLC, Mechanicsville, VA; Aeyon LLC, Vienna, VA; Davis Defense Group, Inc., Stafford, VA; Knexus Research LLC, Oxon Hill, MD; LeoLabs Federal, Inc., Chantilly, VA; Nooks LLC, Arlington, VA; Ocean Specialists, Inc., Stuart, FL; Planned Systems International, Inc., Columbia, MD; SpinSys-Dine LLC, Scottsdale, AZ; TekSynap Corp., Reston, VA; and Virtual Service Operations LLC, Sterling, VA, have been added as parties to this venture.

Also, Avaya Federal Solutions, Fairfax, VA; Bowhead Professional Solutions LLC, Springfield, VA; ClearShark LLC, Hanover, MD; Computer Technologies Consultants, Inc., McLean, VA; Dux Global, Inc. dba EXEPRON, Lafayette, LA; Ellis & Watts Global Industries, Inc., Batavia, OH; Ericsson, Inc., Plano, TX; Exium, Inc., Allen, TX; Federated Wireless, Inc., Arlington, VA; Feith Systems & Software, Inc., Fort Washington, PA; Home2Office Computing Solutions, Inc. dba C3 Networx, San Diego, CA; INDUS Technology, Inc., San Diego, CA; InterSystems Corp., Cambridge, MA; IT Consulting Partners LLC, Jackson, WY; McAfee Public Sector LLC, Columbia, MD; MFGS, Inc., McLean, VA; MicroStrategy Services Corp., Vienna, VA; Octo Consulting Group, Inc., Reston, VA; Perspecta, Inc., Chantilly, VA; ReefPoint Group LLC, Annapolis, MD; SecureG, Inc., Herndon, VA; Sertainty Corp., Nashville, TN; ThunderCat Technology LLC, Reston, VA; Two Six Labs LLC, Arlington, VA; Ultramain Systems, Inc., Albuquerque, NM; and Ventech Solutions, Inc., Columbus, OH, have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on April 3, 2024. A notice was published in the Federal Register pursuant to section 6(b) of the Act on June 21, 2024 (89 FR 52097).

Suzanne Morris,
Deputy Director Civil Enforcement Operations, Antitrust Division.

[FR Doc. 2024-23603 Filed 10-10-24; 8:45 am]

BILLING CODE P